DEPARTMENT OF LABOR

Employment and Training Administration

[TA-W-59,423]

Paxar Americas, Inc., Printed Division, Lenoir, NC; Notice of Termination of Investigation

Pursuant to section 221 of the Trade Act of 1974, as amended, an investigation was initiated on May 18, 2006, in response to a worker petition filed by a company official on behalf of workers at Paxar Americas, Inc., Printed Division, Lenoir, North Carolina.

The petitioning group of workers is covered by an active certification (TA-W-59,311) which expires on May 18, 2008. Consequently, further investigation in this case would serve no purpose, and the investigation has been terminated.

Signed at Washington, DC, this 19th day of May 2006.
Elliott S. Kushner,
Certifying Officer, Division of Trade Adjustment Assistance.

[FR Doc. E6-8952 Filed 6-7-06; 8:45 am]

BILLING CODE 4510-30-P